INTERNATIONAL TRADE COMMISSION

[Investigation Nos. 701-TA-541 and 731-TA-1284 and 1286 (Final)]

Cold-Rolled Steel Flat Products From China and Japan; Determinations

On the basis of the record ¹ developed in the subject investigations, the United States International Trade Commission (“Commission”) determines, pursuant to the Tariff Act of 1930 (“the Act”), that an industry in the United States is materially injured by reason of imports of cold-rolled steel flat products from China and Japan, provided for in subheadings 7209.15, 7209.16, 7209.17, 7209.18, 7209.25, 7209.26, 7209.27, 7209.28, 7209.90, 7210.70, 7211.23, 7211.29, 7211.90, 7212.40, 7225.50, 7225.99, and 7226.92 of the Harmonized Tariff Schedule of the United States (“HTSUS”),² that have been found by the Department of Commerce (“Commerce”) to be sold in the United States at less than fair value (“LTFV”), and that have been found by Commerce to be subsidized by the government of China.³

¹ The record is defined in sec. 207.2(f) of the Commission's Rules of Practice and Procedure (19 CFR 207.2(f)).

² Commerce's scope indicates that such imports may also enter under the HTS subheadings 7210.90, 7212.50, 7215.10, 7215.50, 7215.90, 7217.10, 7217.90, 7225.19, 7226.19, 7226.99, 7228.50, 7228.60, and 7229.90 (81 FR 32721, May 24, 2016; 81 FR 32725, May 24, 2016; and 81 FR 32729, May 24, 2016).

³ All six Commissioners voted in the affirmative. The Commission also finds that imports from China and Japan subject to Commerce's affirmative critical circumstances determinations are not likely to undermine seriously the remedial effect of the countervailing and antidumping duty orders on cold-rolled steel flat products from China and the antidumping duty order on such products from Japan.

Background

The Commission, pursuant to sections 705(b) and 735(b) of the Act (19 U.S.C. 1671d(b) and 19 U.S.C. 1673d(b)), instituted these investigations effective July 28, 2015, following receipt of a petition filed with the Commission and Commerce by AK Steel Corporation (West Chester, Ohio), ArcelorMittal USA LLC (Chicago, Illinois), Nucor Corporation (Charlotte, North Carolina), Steel Dynamics, Inc. (Fort Wayne, Indiana), and United States Steel Corporation (Pittsburgh, Pennsylvania). The final phase of the investigations was scheduled by the Commission following notification of preliminary determinations by Commerce that imports of cold-rolled steel flat products from China were subsidized within the meaning of section 703(b) of the Act (19 U.S.C. 1671b(b)) and imports of cold-rolled steel flat products from China and Japan were dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 23, 2016 (81 FR 15559). The hearing was held in Washington, DC, on May 24, 2016, and all persons who requested the opportunity were permitted to appear in person or by counsel.

The Commission made these determinations pursuant to sections 705(b) and 735(b) of the Act (19 U.S.C. 1671d(b) and 19 U.S.C. 1673d(b)). It completed and filed its determinations in these investigations on July 7, 2016. The views of the Commission are contained in USITC Publication 4619 (July 2016), entitled Cold-Rolled Steel Flat Products from China and Japan (Investigation Nos. 701-TA-541 and 731-TA-1284 and 1286 (Final).

By order of the Commission.
Issued: July 7, 2016.
Lisa R. Barton,
Secretary to the Commission.

[FR Doc. 2016-16526 Filed 7-12-16; 8:45 am]

BILLING CODE 7020-02-P